FEDERAL RESERVE SYSTEM

Government in the Sunshine Act; Meeting Notice

AGENCY: Board of Governors of the Federal Reserve System.

Time and Date: 10 a.m., Friday, January 15, 2021.

Place: Virtual Meeting via Video/Audio Conference.

Status: Closed.

Matter(s) to be Considered: 1. Personnel Matter.

FOR MORE INFORMATION CONTACT: Michelle Smith, Director, Division of Board Members at 202-452-2955.

SUPPLEMENTARY INFORMATION: You may access the Board's website at www.federalreserve.gov for an electronic announcement.

Dated: January 8, 2021.
Ann Misback,
Secretary of the Board.

[FR Doc. 2021-00523 Filed 1-8-21; 4:15 pm]

BILLING CODE 6210-01-P